DEPARTMENT OF ENERGY

Federal Energy Regulatory Commission

[Project Nos. 1932-004, 1933-010 & 1934-010—California]

Southern California Edison; Notice of Availability of Draft Environmental Assessment

May 7, 2002.

In accordance with the National Environmental Policy Act of 1969 and the Federal Energy Regulatory Commission's (Commission) regulations, 18 CFR part 380 (Order No. 486, 52 FR 47897), the Office of Energy Projects has reviewed the applications for licenses for the Lytle Creek, Santa Ana River 1 & 3, and the Mill Creek 2/3 Hydroelectric Projects, located on the Lytle Creek, Santa Ana River, and Mill Creek, respectively, in San Bernardino County, California, and has prepared a Draft Multiple Project Environmental Assessment (DEA) for the projects. The projects are located within the San Bernardino National Forest.

The DEA contains the staff's analysis of the potential environmental impacts of the projects and concludes that licensing the projects, with appropriate environmental protective measures, would not constitute a major federal action that would significantly affect the quality of the human environment.

A copy of the DEA is on file with the Commission and is available for public inspection. The DEA may also be viewed on the Web at http://www.ferc.gov using the “RIMS” link—select “Docket #” and follow the instructions (call 202-208-2222 for assistance).

Any comments should be filed within 45 days from the date of this notice and should be addressed to Magalie R. Salas, Secretary, Federal Energy Regulatory Commission, 888 First Street, NE, Washington, DC 20426. Please affix Project No. 1932-004, P-1933-010, or P-1934-010 to all comments. Comments may be filed electronically via the Internet in lieu of paper. See 18 CFR 385.2001(a)(1)(iii) and the instructions on the Commission's Web site under the “e-Filing” link.For further information, contact Jon Cofrancesco at (202) 219-0079.

Magalie R. Salas,
Secretary.

[FR Doc. 02-11843 Filed 5-10-02; 8:45 am]

BILLING CODE 6717-01-P